NUCLEAR REGULATORY COMMISSION

[Docket No. 50-206]

Southern California Edison; San Onofre Nuclear Generating Station, Unit 1 Exemption from Certain Requirements in 10 CFR Part 20 Appendix G

1.0 Background

Southern California Edison (SCE) is the licensee and holder of Facility Operating License No. DPR-13 for San Onofre Nuclear Generating Station, Unit 1 (SONGS-1), a permanently shutdown nuclear reactor facility located in San Diego County, California. When SONGS-1 was permanently shut down in 1992, SCE's license was amended pursuant to the Atomic Energy Act and 10 CFR Part 50 to possess, but not operate, the facility. Although permanently shutdown, the facility is still subject to all rules, regulations, and orders of the U.S. Nuclear Regulatory Commission (the Commission).

In 1999, the licensee began active decommissioning of SONGS-1 and significant dismantlement of the facility has been accomplished to date. In 2002, the reactor vessel was removed and packaged for transport and burial at a low-level radioactive waste disposal facility. The licensee is planning to transport the reactor vessel from SONGS-1 to the Chem-Nuclear low-level radioactive waste disposal facility at Barnwell County, South Carolina, by a combination of overland vehicle, ocean going vessel or barge, and rail transportation. The shipment is planned to begin sometime in the period between November 2003, and February 2004. The travel time is estimated to be as long as 90 days.

2.0 Request/Action

In a letter to the Commission dated March 7, 2003, the licensee requested a one-time exemption from certain requirements in 10 CFR part 20, appendix G, Section III.E. These requirements would require a licensee to investigate and file a report with the NRC if a shipment of radioactive waste is not acknowledged by the intended recipient within 20 days when making a shipment of low-level radioactive waste to a land disposal facility. The licensee has requested a one-time exemption from the 20-day investigation and reporting requirements for shipment of the SONGS Unit 1 reactor vessel since the transport time for the reactor vessel to the disposal site is currently expected to take as long as 90 days. If the regulation were to be applied to the shipment of the SONGS-1 reactor vessel, the licensee would be required to investigate, trace, and submit a report to the Commission on the shipment 20 days into the approximately 90-day journey to the Barnwell disposal site. The licensee believes the underlying purpose of the rule is to trace radioactive shipments which have not reached their destination as scheduled for unknown reasons. Application of this regulation for shipment of the SONGS-1 reactor vessel would not be meaningful for a shipment expected to take up to 90 days.

3.0 Discussion

Pursuant to 10 CFR 20.2301, the Commission may, upon application by a licensee or upon its own initiative, grant an exemption from the requirements of regulations in 10 CFR part 20, appendix G, section III.E if it determines the exemption is authorized by law and would not result in undue hazards to life or property.

There are no provisions in the Atomic Energy Act (or in any other Federal statute) that impose a requirement to investigate and report on low-level radioactive waste shipments that have not been acknowledged by the recipient within 20 days of transfer. Therefore, the Commission concludes that there is no statutory prohibition on the issuance of the requested exemption and the Commission is authorized to grant the exemption by law.

The Commission acknowledges that investigation of the shipment status well before its expected completion would not be meaningful. The Commission also agrees with the licensee that the underlying purpose of the rule is to investigate a late shipment that may be lost, misdirected, or diverted. Because of the particular circumstances of this shipment and the massive size and weight of the reactor vessel, special planning, shipping arrangements, oversight, and monitoring will be needed throughout the entire journey from SONGS-1 to the disposal site. It is unlikely that the shipment could be lost, misdirected, or diverted without the knowledge of the carrier or the licensee. Furthermore, there is no need to specify any arbitrary time to complete the shipment. Because the nature of this shipment will necessitate considerable oversight well beyond that employed for most low-level radioactive waste shipments, the Commission finds that there is no hazard to life or property by not investigating, tracing, and reporting on the reactor vessel shipment 20 days into its potential 90-day journey. Therefore, the Commission concludes that the underlying purpose of 10 CFR part 20, appendix G, section III.E will be met.

4.0 Conclusion

Accordingly, the Commission has determined that, pursuant to 10 CFR 20.2301, the exemption requested by SCE in its March 7, 2003 letter is authorized by law and will not result in undue hazards to life or property. Therefore, the Commission hereby grants SCE a one-time exemption from the need to investigate, trace, and report on the shipment of the SONGS-1 reactor vessel when the reactor vessel is not received and acknowledged by the land disposal site at Barnwell, SC, within 20 days from the start of the shipment as required by 10 CFR part 20, appendix G, section III.E.

Pursuant to 10 CFR 51.31, the Commission has determined that the granting of this exemption will not have a significant effect on the quality of the human environment as documented in Federal Register notice 68 FR 20033.

This exemption is effective upon issuance.

Dated at Rockville, Maryland this 15th day of May, 2003.
For the Nuclear Regulatory Commission.
John T. Greeves,
Director, Division of Waste Management, Office of Nuclear Material Safety, and Safeguards.

[FR Doc. 03-13214 Filed 5-27-03; 8:45 am]

BILLING CODE 7590-01-P